ENVIRONMENTAL PROTECTION AGENCY

[ER-FRL-6687-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070085, ERP No. D-USN-K13000-GU, Kilo Wharf Extension (MILCON P-52), To Provide Adequate Berthing Facilities for Multi-Purpose Dry Cargo/Ammunition Ship (the T-AKE), Apra Harbor Naval Complex, Mariana Island, GU

Summary: EPA expressed environmental concerns about impacts to coral reef ecosystems and recommended additional mitigation for sedimentation impacts, evaluation of a less-damaging alternative, and selection of Sella Bay coral reef restoration as compensatory mitigation. Rating EC2.

EIS No. 20070091, ERP No. D-NPS-F65066-MN, Pipestone National Monument General Management Plan, Implementation, Pipestone County, MN

Summary: EPA expressed environmental concerns about habitat, historic preservation, land use, threatened and endangered species, and noise. EPA suggested modifications to existing alternatives, and recommended green architectural features. Rating EC2.

EIS No. 20070109, ERP No. D-NGB-E11062-MS, Camp Shelby Joint Force Training Center, Implementation of Installation Mission Support Activities, Renewal of Special Use Permit, DeSoto National Forest, in portions of Forrest, George and Perry Counties, MS

Summary: EPA expressed environmental concerns about wetland and water quality impacts associated with the proposed action. EPA supports a comprehensive monitoring program to ensure that the ongoing impacts from military training are assessed and appropriately addressed/mitigated once identified. Rating EC2.

EIS No. 20070115, ERP No. D-FAA-E51052-FL, Fort Lauderdale-Hollywood International Airport, Proposed Development and Extension of Runway 9R/27L and other Associated Airport Projects, Funding, U.S. Army COE Section 404 Permit and NPDES Permit, Fort Lauderdale, Broward County, FL

Summary: EPA expressed concern about aircraft noise impacts and air quality impacts related to PM2.5. EPA recommends that the final EIS discuss approaches to minimize and mitigate noise and air quality impacts. Rating EC2.

EIS No. 20070123, ERP No. D-IBR-K31019-CA, North Sonoma County Agricultural Reuse Project, Construct and Operate a Recycled Water to Agricultural Lands, Sonona County, CA

Summary: EPA expressed concern about air and water quality impacts. Rating EC2.

EIS No. 20070072, ERP No. DA-FHW-E40339-NC, NC 12 Replacement of Herbert C. Bonner Bridge (Bridge No. 11) Revisions and Additions, over Oregon Inlet Construction, Funding, U.S. Coast Guard Permit, Special-Use-Permit, Right-of-Way Permit, U.S. Army COE Section 10 and 404 Permit, Dare County, NC

Summary: EPA expressed concern about impacts to a national wildlife refuge and national seashore and questioned the long-term effects to water quality and migratory birds. Rating EC2.

EIS No. 20070063, ERP No. DS-USN-D52000-00, Introduction of F/A 18 E/F (Super Hornet) Aircraft, Updated Information, Construction and Operation of an Outlying Landing Field, Naval Air Station (NAS) Oceana, VA; Marine Corps Air Station (MCAS) Cherry Point, NC

Summary: EPA has concerns about the potential environmental impacts of locating an outlying landing field in close proximity to the nationally-significant Pocosin Lakes National Wildlife Refuge. EPA recommends that the Navy reconsider other available alternatives. Rating EC2. FINAL EISs

EIS No. 20070099, ERP No. F-SFW-K65313-CA, San Joaquin Valley Operations and Maintenance Program Habitat Conservation Plan, Application for Incidental Take Permits, San Joaquin, Stanislaus, Merced, Fresno, Kings, Kern Mariposa, Madera and Tulare Counties, CA

Summary: No formal comment letter was sent to the preparing agency.

EIS No. 20070148, ERP No. F-FHW-E40796-NC, U.S 64 Corridor Project, Transportation Improvements in the Vicinity of the City of Asheboro and Improved Access to the NC Zoological Park, Funding and COE Section 404 Permit, Transportation Improvement Program (TIP) Project No. R-2536, Randolph County, NC

Summary: EPA continues to have environmental concerns about stream/wetland impacts, terrestrial forest impacts, and short-term air quality impacts. EPA requested additional interchange design considerations to avoid and minimize impacts to streams and wetlands.

EIS No. 20070156, ERP No. F-NOA-K90031-CA, Channel Islands National Marine Sanctuary (CINMS) Project, Establishment of No-ake and Limited-Take Marine Zones, Protection of Sanctuary Biodiversity, CA

Summary: No formal comment letter was sent to the preparing agency.

EIS No. 20070161, ERP No. F-IBR-G39046-00, Upper Rio Grande Basin Water Operations Review, Preferred Alternative E-3, To Develop an Integrated Plan for Water Operations at the Existing Facilities, NM, CO and TX

Summary: No formal comment letter was sent to the pareparing agency.

EIS No. 20070162, ERP No. F-FRC-G03033-LA, Kinder Morgan Louisiana Pipeline Project, Natural Gas Pipeline Facilities, Construction and Operation, U.S. Army COE Section 10 and 404 Permits, Evangeline, Cameron, and Acadia Parishes, LA

Summary: No formal comment letter was sent to the preparing agency.

EIS No. 20070126, ERP No. FS-AFS-K65286-CA, Watdog Project, Preferred Alternative is B, Feather River Ranger District, Plumas National Forest, Butte and Plumas Counties, CA

Summary: EPA has continuing concerns about cumulative impacts to watersheds and short-term impacts to old-forest species, and continues to recommend a less-intensive harvest alternative.

Dated: June 5, 2007.
Robert W. Hargrove,
Director, NEPA Compliance Division, Office of Federal Activities.

[FR Doc. E7-11102 Filed 6-7-07; 8:45 am]

BILLING CODE 6560-50-P